NATIONAL FOUNDATION ON THE ARTS AND HUMANITIES

National Endowment for the Humanities

Call for Proposals To Establish a Partnership in the State of Iowa

AGENCY: National Endowment for the Humanities; National Foundation on the Arts and the Humanities.

ACTION: Notice.

SUMMARY: The National Endowment for the Humanities (NEH) requests proposals from interested nonprofit organizations and institutions of higher education to partner with NEH as the designated state humanities council in Iowa. Specifically, NEH is interested in partnering with a nonprofit organization or institution of higher education that has the skills and capacity to plan and administer humanities subawards and programs and provide humanities resources that are accessible to the people of the State of Iowa.

DATES: All proposals must be received by July 31, 2024.

ADDRESSES: Submit proposals electronically, with the subject line, “Opportunity to Enter into a Partnership with the National Endowment for the Humanities as the Designated Humanities Council in the State of Iowa,” by email at the following address: fedstatecfp@neh.gov.

FOR FURTHER INFORMATION CONTACT: Karen Kenton, Director, Office of Federal/State Partnership, 400 Seventh Street SW, Washington, DC 20024. Phone: 202.606.8254. Email: kkenton@neh.gov.

SUPPLEMENTARY INFORMATION:

I. Background

In accordance with the President's Executive Order on Advancing Racial Equity and Support for Underserved Communities Through the Federal Government, E.O. 13985 of Jan 20, 2021, NEH encourages all eligible organizations to apply who meet the listed qualifications and requirements in this notice, including those that serve, represent, or are led by underserved communities, such as Black, Latino, Indigenous and Native American, Asian Americans and Pacific Islanders and other persons of color; members of religious minorities; lesbian, gay, bisexual, transgender, and queer (LGBTQ+) persons; persons with disabilities; persons who live in rural areas; and persons otherwise adversely affected by persistent poverty or inequality and the organizations that support these individuals and groups.

NEH is an independent Federal agency in the executive branch. NEH's enabling legislation authorizes the agency to “establish and carry out a program of grants-in-aid in each of the several states”—the term “states” defined as including all states and jurisdictions of the U.S.—in order to advance the humanities. (20 U.S.C. 956(f)).

By statute, each year, NEH's designated humanities councils apply for a General Operating Support Grant using the following Notice of Funding Opportunity: State and Jurisdictional Humanities Councils General Operating Support Grants (neh.gov). Awards are subject to 2 CFR part 200 Uniform Administrative Requirements, Cost Principles, and Audit Requirements for Federal Awards, and the General Terms and Conditions for General Support Grants to State Humanities Councils. These General Operating Support Grants are subject to a 1:1 cost-share requirement. (20 U.S.C. 956(f)).

The selected entity will be invited to apply for a fiscal year 2025 General Operating Support Grant for the State of Iowa.

NEH-funded humanities councils ensure access to humanities subawards, programs, and resources in every U.S. state and jurisdiction. Activities conducted by a designated state humanities council may include: (1) grantmaking, (2) developing and implementing council-led public humanities programs, (3) working with humanities scholars, experts, and/or practitioners, (4) partnering with other local, state, jurisdictional, and national organizations, (5) ensuring humanities resources remain accessible to the people of the council's state or jurisdiction, (6) fundraising to meet the required 1:1 match and support the sustainability of programs and operations, (7) actively participating with the network of other state and jurisdictional humanities councils—all in support of advancing the council's and NEH's mission.

Under section 3(a) of the National Foundation on the Arts and the Humanities Act of 1965, as amended, “The term `humanities' includes, but is not limited to, the study of the following: language, both modern and classical; linguistics; literature; history; jurisprudence; philosophy; archaeology; comparative religion; ethics; the history, criticism and theory of the arts; those aspects of the social sciences which have humanistic content and employ humanistic methods; and the study and application of the humanities to the human environment with particular attention to reflecting our diverse heritage, traditions, and history and to the relevance of the humanities to the current conditions of national life.”

II. General Scope

Only nonprofit organizations and institutions of higher education are eligible to submit a proposal. Eligible entities must be incorporated to serve the State of Iowa. To be eligible, your organization must make substantive contributions to the success of the project and must not function solely as a fiscal agent for another entity. Individuals and other organizations, including foreign and for-profit entities, are ineligible.

The entity that is selected pursuant to this notice will be eligible to submit proposals for general operating support funding on an annual basis using the following Notice of Funding Opportunity: State and Jurisdictional Humanities Councils General Operating Support Grants (neh.gov).

III. Requested Response

NEH seeks to partner with one nonprofit organization or institution of higher education to establish a humanities council in the State of Iowa.

a. Proposal Submission

All submissions must be made in electronic format and submitted in accordance with the ADDRESSES section above.

Unless otherwise stipulated in specific instructions, attachments should conform to the following formatting requirements: (1) maximum 30 pages, exclusive of Appendices/Supplementary Materials, (2) paper size no larger than standard letter paper size (8½″ x 11″), (3) at least one-inch margins on all sides for all pages, (4) a font size no smaller than 11-point, (5) single-spacing, (6) recommended fonts: Arial, Georgia, Helvetica, or Times New Roman, (7) any standard citation style is acceptable; citations are included in page counts.

All proposals are subject to the False Claims Amendments Act of 1986, 31 U.S.C. 3729 and 18 U.S.C. 287, as well as the False Statements Accountability Act of 1996, 18 U.S.C 1001. In accordance with Federal appropriations law, an authorized representative of the selected proposer(s) may be required to provide certain certifications regarding Federal felony and Federal criminal tax convictions, unpaid Federal tax assessments, and delinquent Federal tax returns.

b. Proposal Narrative Guidance

The proposal must address each prompt below and should include information presented in a manner sufficient to allow each response to be reviewed against the evaluation criteria set forth in part “IV, d—Evaluation Criteria.” Please use each heading as a title to organize each section of the proposal.

Executive Summary/Capability Statement (1 Page)

• Describe the nature and scope of the organization's humanities expertise; its capacity to steward Federal funds, serve as NEH's designated humanities council, and reach cultural entities and audiences throughout the State of Iowa; and its experience successfully conducting public humanities programming and grantmaking.

Proposal Narrative

1. The Significance of the Humanities in the Work of the Organization (1-2 Pages)

• Positioning: Discuss the organization's position within Iowa with respect to cultural institutions, colleges and universities, academic and public humanities, philanthropic organizations, K-12 educators, and the state government and its elected officials.

• Significance: Discuss the significance and impact of the organization's public humanities programing and grantmaking in the State of Iowa.

2. The Context and Work of the Organization (2-5 Pages)

• Public awareness: Discuss the cultural sector's and public's awareness of the work of the organization—what is the organization best known for, which programs and offerings are the most popular, and how does the public interact with the organization?

• Leadership: How will the organization serve as a facilitator, convener, and trusted partner in the Iowa cultural community?

• Defining the humanities: How will the organization define the humanities to the public, particularly those audiences that may not be familiar with the humanities?

• Scholarship and scholars: How will the organization ground its public programming and/or grantmaking in humanities scholarship? What role will scholars play in the design, implementation, and evaluation of programming and/or grantmaking?

• Audiences: What primary audiences will the organization serve?

• Partners: Discuss how the organization will leverage partnerships to enhance the accessibility, reach, and quality of humanities programming and grantmaking. Include the names and roles of potential partners.

• Communication and Visibility: How will the organization communicate with the public about its humanities programming and/or grantmaking? How will the organization promote itself as a humanities funder and programmer?

• Evaluation: Discuss how the organization will leverage data to inform humanities programming, grantmaking, and internal operations.

• Advocacy: NEH strictly prohibits grantees from using the Federal funds it provides for advocacy; humanities councils may not use NEH funds to promote a particular political, religious, or ideological point of view, and must avoid advocacy of a particular program of social or political action. Discuss how, if selected, the organization will actively ensure that NEH funding is not used for advocacy? How will the organization review programs funded by NEH to ensure that its programs and its subrecipients' programs do not engage in advocacy? How often will these reviews occur? If an allegation of improper political advocacy in an NEH-funded program were to be brought to your attention, please explain how you would investigate and resolve the matter.

3. Proposed Humanities Programs (2-4 Pages)

Describe the humanities programs, grants, and other activities the organization proposes to undertake if selected as the designated humanities council in the State of Iowa. Will any of the organizations' existing programs and grants continue?

• Please provide a list with short (no more than 1 paragraph) descriptions of the programs and grants currently available.

4. The Quality of Operations (2-5 Pages)

• Strategic Planning:

○ Discuss the organization's mission statement and its role in shaping activities and operations.

○ Discuss the organization's approach to strategic planning, including who is involved in planning discussions, and the frequency of new plans and/or updates.

• Organizational management:

○ How does the organization set budgetary priorities? How will the organization plan for and manage risks and liabilities? How does the organization guarantee transparency and accountability of its activities?

○ NEH strongly encourages all humanities councils to pursue diversified funding streams to create stability and reduce risk. Discuss annual goals for fundraising and the organization's current fundraising strategy. Does the organization manage its own fundraising activities, or does it outsource its fundraising activities? Explain how the organization will raise the 1:1 match ¹ required by NEH (please base the response on receiving an annual grant of $999,777,² the FY2023 amount allocated to the State of Iowa).

¹ By law, the NEH cannot support more than 50 percent of the costs of a state humanities council's activities (20 U.S.C. 956 (f)). The balance of support may come from cash contributions to the council that are made from any source (including funds from other Federal agencies), program income the council has earned, the allowable costs that a subrecipient incurs in carrying out a council-funded project, and the value of in-kind contributions that are made by a third party. Please see General Terms and Conditions for General Support Grants to State Humanities Councils The National Endowment for the Humanities (neh.gov) for more information.

² This amount is not guaranteed. Allocations to the state and jurisdictional humanities councils are made on an annual basis and based on the amount budgeted to NEH from Congress.

○ Does the organization conduct regular financial audits? If so, provide the length of service by the current audit firm and frequency in rotating auditors and/or firms. Were there any findings in the most recent audit? If so, please describe.

○ How does the organization prioritize staff resources? What professional development opportunities exist for staff? How are staff evaluated and how is compensation determined?

○ Are succession plans in place for the executive director, senior staff, and board leadership?

• Board Governance: Discuss the role of the board in the following:

○ Setting organizational priorities

○ Determining grants and/or programming

○ Overseeing the executive director

○ Working with the staff

○ Fundraising

○ Outreach

○ Communications

○ Evaluation

5. Public Meetings (1-3 Pages)

During the application period, the prospective partner is required to hold, after reasonable notice, at least one public meeting in the State of Iowa to allow scholars, interested organizations, and the public to present views and make recommendations regarding the organization's proposal. This meeting may be held virtually. The applicant must provide public access to, at minimum, a copy of the Executive Summary and the Work Plan. The application must include a summary of the public recommendations and the organization's response to them.

(Required by statute (20 U.S.C. 956(f))

6. Three Year Work Plan and Goals (3-5 Pages)

Provide a year-by-year outline of a proposed work plan and goals during the initial three-year period of performance as the selected humanities council partner, outlining the following:

• The steps to be taken to develop, implement, and evaluate humanities programming and grantmaking.

○ As appropriate, identify meetings and/or opportunities for collaboration with key stakeholders during the planning, implementation, and evaluation processes.

• The sequence in which these steps will occur, the amount of time they will take, and who will be responsible for each task.

• The staff resources required for planning, implementation, and evaluation, including any new staff positions.

• The involvement of the board in planning, implementation, and evaluation. Will there be any changes required to the board structure, committees, or bylaws?

• The organization's plans to meet the required cost-share (1:1) for General Operating Support awards. (Required by statute 20 U.S.C. 956(f))

Appendices/Supplementary Materials

All applications must include:

• Letters of support from any organizational (government or private), program, or grant partner, as well as letters of support from a sampling of up to five individual humanities scholars and advisors, and a signed letter of commitment from the organization's current board of directors.

• Brief résumés (no longer than two pages) for the executive director and the board chair.

• A copy of the organization's current strategic plan.

• A copy of the organization's current bylaws.

• A copy of the organization's organizational chart.

• A copy of the conflict-of-interest statement for the board and staff.

• Statements of compliance with nondiscrimination laws.

• Staff biographies (no more than 1 paragraph).

• Board biographies (no more than 1 paragraph).

• A copy of the organization's IRS determination letter.

• A copy of the organization's last 3 years of audited financial statements.

IV. Evaluation and Selection Process

All proposals received before the end date set forth in the DATES section of this notice will be reviewed to determine whether they are submitted by an eligible organization (section II. General Scope), contain all required proposal information, and are responsive to this notice. Proposals determined to be ineligible, incomplete, and/or non-responsive based on the initial screening by Office of Grant Management and program staff will be eliminated from further review. Applicants will be notified by email if their proposal is deemed ineligible.

All proposals that are determined to be eligible, complete, and responsive will be fully reviewed in accordance with the review and selection process as set forth below.

a. Site Visit

Each proposal deemed eligible for a full review will receive a two-day on-site visit in September 2024 by one NEH staff member and one external reviewer (the site reviewers). The site reviewers will take into consideration the organization's mission, alignment with NEH priorities, expertise in humanities-based grantmaking and programming, statewide position and partnerships, and the quality of operations, financial health, and stability to determine the feasibility of the proposed plan to become NEH's designated partner. Key participants from the applicant organization will include the executive director, staff, board members, and the following constituent groups: grantees (if applicable), scholars/advisors, partners, and funders.

In conjunction with the site visit conducted by the NEH Program Office, the applicant organization will undergo a three-hour virtual site visit with two staff members from the Office of Grant Management (OGM). The OGM site visit aims to assess the applicant organization's capacity to effectively manage an NEH General Operating Support award and provide necessary tools and resources to strengthen oversight. During the site visit, OGM will communicate the NEH's expectations for State Humanities Councils and conduct an objective review to determine if the organization's policies, procedures, internal controls, and financial systems comply with the requirements of 2 CFR part 200, Uniform Administrative Requirements, Cost Principles, and Audit Requirements for Federal Awards, and the NEH General Terms and Conditions for General Support Grants to State Humanities Councils.

Applicant organizations will be expected to complete a Site Visit Questionnaire that assesses the organization's administrative procedures, financial systems, and internal controls and a Financial Assessment Questionnaire that assesses accounting systems, internal controls, and audit history. Additionally, the organization must have all written policies available. These materials must be submitted to OGM for review one week before the virtual site visit. Key participants from the applicant organization will include the Executive Director, Institutional Grant Administrator (equivalent), and finance staff, as needed.

b. Peer Review

Following the on-site visit, all proposals deemed eligible for a full review will be reviewed, along with the independent reviewer's site visit report, by a panel of at least three peer reviewers. Peer reviewers are experts in the field with relevant knowledge and expertise in the types of activities identified in the proposals. NEH instructs reviewers to evaluate proposals according to the Evaluation Criteria outlined below. Peer reviewers must comply with Federal ethics and conflicts of interest requirements. In addition to information included in your proposal, NEH and the peer reviewers may take into account feedback provided by internal or external site reviewers in the consideration of your proposal. NEH's Application Review Process | The National Endowment for the Humanities.

c. National Council on the Humanities Review

NEH staff comment on matters of fact or on significant issues that otherwise would be missing from peer reviews, then make recommendations to the National Council on the Humanities. The National Council meets at least thrice annually to advise the NEH Chair. The Chair considers the advice provided by the review process and, by law, makes all funding decisions.

d. Evaluation Criteria

1. The Significance of the Humanities in the Work the Organization

• In what ways are the organization's current programs, grants, and other activities significant or impactful for the advancement of the humanities in the State of Iowa?

2. The Context and Work of the Organization

• Does the organization have appropriate relationships with state/local government officials, cultural institutions, colleges and universities, academic and public humanists, and philanthropic organizations?

• Does the organization have an appropriate level of visibility throughout the state? Does the proposal adequately outline plans to communicate with the general public about the work of a humanities council (programs, grants, etc.)?

• Who are the identified audiences served, and how will they benefit from the outcomes of the partnership (humanities council) over the long term?

• Are appropriate partners in place to enhance the accessibility, reach, and quality of the proposed programs and/or grantmaking?

• Given that NEH requires humanities councils to actively engage humanities scholars and practitioners in program development, program implementation, and evaluation, does the proposal show that humanities scholars and practitioners are adequately involved in the organization's work?

3. Proposed Humanities Programs

• Does the applicant have a history of offering humanities grants and/or conducting humanities programming?

• Are the current and proposed humanities grants and programs reasonable and achievable?

4. The Quality of Operations

• Is there a strategic plan in place that is reasonable and achievable?

• Is the organizational structure sound? Are there sufficient human and financial resources to meet the goals and requirements for the work of a humanities council? Does the fundraising plan prioritize diversified funding streams? Is there a reasonable plan to meet the required 1:1 cost-share beyond the use of indirect costs?

• Does the level of involvement or engagement of the board follow best practices in board governance? Does the board have appropriate oversight of the organization's operations and finances?

5. Public Meetings

• Has the applicant held at least 1 public meeting?

• Does the proposal include a summary of the public recommendations and the organization's response to them?

6. The Work Plan and Feasibility of the Proposed Methods

• To what extent are the goals and objectives clearly identifiable and achievable?

• Is the timeline appropriate for the work plan and the proposed resources?

• Are the roles and duties of key personnel clear, and are the team members appropriately qualified for the proposed work?

• Do the key personnel and board members represent an appropriate mix of humanities, nonprofit, and community expertise? How strong is the experience of the staff and board in each of these areas?

V. Notification of Results

NEH will notify applicants of the NEH Chair's decision to enter into a partnership in December 2024. This notification is not an authorization to begin performance or incur related costs. No funding is awarded through this call for proposals. The selected partner will be invited to apply for a State and Jurisdictional Humanities Council General Operating Support Grant using the following Notice of Funding Opportunity: State and Jurisdictional Humanities Councils General Operating Support Grants.

Dated: March 27, 2024.
Jessica Graves,
Paralegal Specialist, National Endowment for the Humanities.

[FR Doc. 2024-06811 Filed 3-29-24; 8:45 am]

BILLING CODE 7536-01-P